DEPARTMENT OF THE INTERIOR

Bureau of Land Management

[LLMTC02200 L14400000.FR0000; MO #4500143799; MTM 109178]

Notice of Availability/Notice of Realty Action: Environmental Assessment of the Direct Sale of the Reversionary Interest on the Miles Community College Patent and Draft Resource Management Plan Amendment to the 2015 Miles City Field Office Resource Management Plan, Montana

AGENCY: Bureau of Land Management, Interior.

ACTION: Notice of availability and notice of realty action.

SUMMARY: In accordance with the National Environmental Policy Act of 1969 (NEPA), as amended, and Section 203 of the Federal Land Policy and Management Act of 1976 (FLPMA), as amended, the Bureau of Land Management (BLM), Montana Miles City Field Office (MCFO) has prepared an environmental assessment (EA) and proposal to amend the 2015 MCFO Resource Management Plan (RMP), as amended. The EA is in response to Miles Community College's (MCC) request for a direct sale of the United States' (U.S.) reversionary interest in the Recreation and Public Purpose (R&PP) Act Patent No. 25-92-0078 for 11.83 acres at fair market value of $272,000, under the authority of FLPMA. By this notice, the BLM is announcing the opening of the comment period on the EA, realty action, and Draft RMP amendment.

DATES: To ensure that comments are considered, written comments regarding the EA, realty action, and Draft RMP amendment must be submitted to the BLM within 45 days following the date that the Environmental Protection Agency (EPA) publishes its Notice of Availability (NOA) in the Federal Register. The EPA typically publishes its NOAs every Friday.

ADDRESSES: You may submit comments by any of the following methods:

• Website: https://bit.ly/36pwGth.

• Mail: Bureau of Land Management; Miles City Field Office; Beth Klempel; 111 Garryowen Road, Miles City, MT 59301.

Copies of the EA are available at the MCFO at the above address or may be reviewed at: https://bit.ly/36pwGth.

FOR FURTHER INFORMATION CONTACT: Beth Klempel, Assistant Field Manager for the Division of Nonrenewable Resources by telephone at 406-233-2800, or by email at bklempel@blm.gov. Persons who use a telecommunications device for the deaf may call the Federal Relay Service (FRS) at 1-800-877-8339 to leave a message or question for Ms. Klempel. The FRS is available 24 hours a day, 7 days a week. You will receive a reply during normal business hours.

SUPPLEMENTARY INFORMATION: The BLM patented the subject land's surface estate to MCC in 1992 under the R&PP Act for the college's educational purposes, including a rodeo arena for equestrian events, recreation facilities and agriculture related courses and programs. The patent is subject to a reversionary interest which only allows MCC to use the land in accordance with the patent and plan of development. The U.S. retained an interest in the land in which title could revert back to the U.S. if the land is not used for the purposes authorized under the R&PP Act or if the land is transferred to another party without the BLM's approval. In 2016, MCC built an Agricultural Advancement Center (indoor arena) on the subject land. On June 3, 2016, the BLM received a request from MCC to purchase the Federal reversionary interest retained by the U.S. The reversionary interest in the following land is proposed for a direct sale in accordance with Section 203 of the FLPMA, as amended (43 U.S.C. 1713).

Principal Meridian, Montana

T. 7 N., R 47 E.,

Sec. 5, Tract X.

The area described above contains 11.83 acres.

The conveyance document issued would convey only the reversionary interest retained by the U.S. in patent 25-92-0078 and would contain terms, conditions and reservations.

The 2015 RMP, as amended, does not specifically identify Tract X for disposal since it was patented to MCC under the R&PP Act prior to the RMP being issued. A direct sale of the reversionary interest would require a plan amendment to the RMP.

Before including your address, phone number, email address, or other personal identifying information in any comment, be aware that your entire comment—including your personal identifying information—may be made publicly available at any time. While you can ask us in your comment to withhold your personal identifying information from public review, we cannot guarantee that we will be able to do so.

(Authority: 43 CFR 1506, 43 CFR 1610.2, and 43 CFR 2711 et seq.)

John Mehlhoff,
State Director, Montana/Dakotas.

[FR Doc. 2020-09616 Filed 5-5-20; 8:45 am]

BILLING CODE 4310-DN-P